COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective October 28, 2013.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 7/26/2013 (78 FR 45183); 8/9/2013 (78 FR 48656-48657) and 8/16/2013 (78 FR 50040), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 8501-8506) in connection with the products and services proposed for addition to the Procurement List.

End of Certification

Accordingly, the following products and services are added to the Procurement List:

Products

Laundry Net, Synthetic Mesh, 24x36, Locking Drawstring

NSN: 3510-00-NIB-0013—Heavy Duty, 3/16″ Hole Size.

NSN: 3510-00-NIB-0014—Medium Duty, 1/16″ Hole Size.

NPA: Bestwork Industries for the Blind, Inc., Runnemede, NJ.

Contracting Activity: General Services Administration, Fort Worth, TX.

COVERAGE: A-List for the Total Government Requirement as aggregated by the General Services Administration.

Services

Service Type/Location: Facility and Grounds Maintenance Service, US Army Corps of Engineers, Wallisville Lake, 20020 IH-10 East Feeder Road, Wallisville, TX.

NPA: Training, Rehabilitation, & Development Institute, Inc., San Antonio, TX.

Contracting Activity: DEPT OF THE ARMY, W076 ENDIST GALVESTON, GALVESTON, TX.

Service Type/Location: Janitorial and Landscape Service, National and Oceanic Atmospheric Administration, National Weather Service, Radar Operations Center 1200 Westheimer Drive, 1426 Halley Avenue, Norman, OK.

NPA: Trace, Inc., Boise, ID.

Contracting Activity: DEPT OF COMM, NATIONAL OCEANIC AND ATMOSPHERIC ADMINISTRATION, BOULDER, CO.

Service Type/Location: Laundry Service, US Coast Guard Base, Portsmouth, VA.

NPA: Louise W. Eggleston Center, Inc., Norfolk, VA

Contracting Activity: DEPT OF HOMELAND SECURITY, U.S. COAST GUARD, BASE PORTSMOUTH, PORTSMOUTH, VA

Service Type/Location: Laundry Service, Federal Bureau of Prisons, FMC Carswell, J Street, Building 3000, Fort Worth, TX.

NPA: Goodwill Industrial Services of Fort Worth, Inc., Fort Worth, TX.

Contracting Activity: FEDERAL PRISON SYSTEM, CARSWELL, FMC, FORT WORTH, TX.

Barry S. Lineback,
Director, Business Operations.

[FR Doc. 2013-23584 Filed 9-26-13; 8:45 am]

BILLING CODE 6353-01-P